DEPARTMENT OF ENERGY

10 CFR Part 430

[Docket No. EERE-2013-BT-DET-0034]

RIN 1904-AD03

Energy Conservation Program for Consumer Products and Certain Commercial and Industrial Equipment: Proposed Determination of Computer Servers as a Covered Consumer Product

AGENCY: Office of Energy Efficiency and Renewable Energy, Department of Energy.

ACTION: Extension of public comment period.

SUMMARY: This document announces an extension of the time period for submitting comments on the proposed determination that computer servers (servers) qualify as a covered product.

DATES: The comment period for the proposed determination relating to servers published on July 12, 2013 (78 FR 41868) is extended. Comments are due September 12, 2013.

ADDRESSES: Any comments submitted must identify the proposed determination for servers and provide docket number EERE-2013-BT-DET-0034 and/or RIN number 1904-AD03. Comments may be submitted using any of the following methods:

• Federal eRulemaking Portal at http://www.regulations.gov. Follow the instructions for submitting comments.

• Email: to Servers2013DET0034@ee.doe.gov. Include EERE-2013-BT-DET-0034 and/or RIN 1904-AD03 in the subject line of the message.

• Mail: Ms. Brenda Edwards, U.S. Department of Energy, Building Technologies Program, Mailstop EE-2J, Proposed Coverage Determination of Servers, EERE-2013-BT-DET-0034, 1000 Independence Avenue SW., Washington, DC 20585-0121. Phone: (202) 586-2945. Please submit one signed paper original.

• Hand Delivery/Courier: Ms. Brenda Edwards, U.S. Department of Energy, Building Technologies Program, 6th Floor, 950 L'Enfant Plaza, SW., Washington, DC 20024. Phone: (202) 586-2945. Please submit one signed paper original.

Docket: For access to the docket to read background documents, or comments received, go to the Federal eRulemaking Portal at http://www.regulations.gov.

FOR FURTHER INFORMATION CONTACT: Mr. Jeremy Dommu, U.S. Department of Energy, Office of Energy Efficiency and Renewable Energy, Building Technologies Program, EE-2J, 1000 Independence Avenue SW., Washington, DC 20585-0121. Telephone: (202) 586-9870. Email: DOE_server_standards@ee.doe.gov.

In the office of the General Counsel, contact Ms. Celia Sher, U.S. Department of Energy, Office of the General Counsel, GC-71, 1000 Independence Avenue SW., Washington, DC 20585-0121. Telephone: (202) 287-6122. Email: Celia.Sher@hq.doe.gov.

SUPPLEMENTARY INFORMATION: On July 12, 2013, The U.S. Department of Energy (DOE) published a proposed determination in the Federal Register (78 FR 41868) tentatively determining that servers qualify as a covered product under Part A of Title III of the Energy Policy and Conservation Act (EPCA), as amended. DOE has preliminarily determined that servers meet the criteria for covered products because classifying products of such type as covered products is necessary or appropriate to carry out the purposes of EPCA, and the average U.S. household energy use for servers is likely to exceed 100 kilowatt-hours (kWh) per year. The proposed determination requested public comment from interested parties on matters relevant to consideration of a determination for servers and provided for the submission of comments by August 12, 2013. Thereafter, the Consumer Electronics Association (CEA), on behalf of itself and its member organizations, requested an extension of the public comment period by a minimum of 30 days. CEA stated that many companies in the information technology industry have not previously been involved in the DOE rulemaking process and could benefit from additional time. Thus, CEA asserted that additional time could help ensure complete input and feedback from all interested companies is provided to DOE in response to this proposal.

Based on CEA's request, DOE believes that extending the comment period to allow additional time for interested parties to submit comments is appropriate. Therefore, DOE is extending the comment period until September 12, 2013 to provide interested parties additional time to prepare and submit comments. Accordingly, DOE will consider any comments received by September 12, 2013 to be timely submitted.

Issued in Washington, DC, on August 6, 2013.
Kathleen B. Hogan,
Deputy Assistant Secretary for Energy Efficiency, Energy Efficiency and Renewable Energy.

[FR Doc. 2013-19475 Filed 8-9-13; 8:45 am]

BILLING CODE 6450-01-P